DEPARTMENT OF TRANSPORTATION

Maritime Administration

[Docket No. DOT-MARAD-2023-0066]

Request for Comments on the Renewal of a Previously Approved Information Collection: Requirements for Eligibility of U.S.-Flag Vessels of 100 Feet or Greater in Registered Length To Obtain a Fishery Endorsement

AGENCY: Maritime Administration, DOT.

ACTION: Notice.

SUMMARY: The Maritime Administration (MARAD) invites public comments on our intention to request the Office of Management and Budget (OMB) approval to renew an information collection. The information collection OMB 2133-0530 (Requirements for Eligibility of U.S.-Flag Vessels of 100 Feet or Greater in Registered Length to Obtain a Fishery Endorsement) is necessary for MARAD to determine if a particular vessel is owned and controlled by United Sates citizens and is eligible to receive a fishery endorsement to its documentation. A minor change request to include privacy act statements for the collection of personally identifiable information will be added to the affidavits for this collection. We are required to publish this notice in the Federal Register by the Paperwork Reduction Act of 1995. A 60-day Federal Register Notice soliciting comments on the following information collection was published on January 19, 2023 (Federal Register 3459, Vol. 88, No.12).

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Michael C. Pucci, (202) 366-5167, Division of Maritime Programs, Maritime Administration, 1200 New Jersey Avenue SE, Washington, DC 20590, Email: michael.pucci@dot.gov.

SUPPLEMENTARY INFORMATION:

Title: Requirements for Eligibility of U.S.-Flag Vessels of 100 Feet or Greater in Registered Length to Obtain a Fishery Endorsement.

OMB Control Number: 2133-0530.

Type of Request: Renewal of a previously approved information collection.

Abstract: In accordance with the American Fisheries Act of 1998 (AFA), owners of vessels of 100 feet or greater who wish to obtain a fishery endorsement are required to file an Affidavit of United States Citizenship with MARAD. The information collected will be used by MARAD to determine if a vessel is owned and controlled by citizens of the United States in accordance with the requirements of the AFA of 1998 and, therefore, is eligible to be documented with a fishery endorsement to its documentation.

Respondents: Certain vessel owners, vessel operators, financial institutions, and professional trusts.

Affected Public: Vessel owners, charterers, mortgagees, mortgage trustees and managers of vessels of 100 feet or greater who seek a fishery endorsement for the vessel.

Estimated Number of Respondents: 500.

Estimated Number of Responses: 500.

Annual Estimated Total Annual Burden Hours: 2,950.

Frequency of Response: Annually.

(Authority: The Paperwork Reduction Act of 1995; 44 U.S.C. Chapter 35, as amended; and 49 CFR 1.49.)

* * * * *

By Order of the Maritime Administrator.
T. Mitchell Hudson, Jr.,
Secretary, Maritime Administration.

[FR Doc. 2023-06183 Filed 3-24-23; 8:45 am]

BILLING CODE 4910-81-P